DEPARTMENT OF ENERGY

Federal Energy Regulatory Commission

[Docket No. ER01-2009-001]

The Detroit Edison Company; Notice of Filing

July 11, 2001.

Take notice that on June 22, 2001, The Detroit Edison Company (Detroit Edison) tendered for filing with the Federal Energy Regulatory Commission (Commission) an amendment to its Service Agreement for Short-term Firm Point-to-Point Transmission Service under the Joint Open Access Transmission Tariff of Consumers Energy Company and Detroit Edison, FERC Electric Tariff No. 1. This Service Agreement is between Detroit Edison and Quest Energy LLC, dated as of February 1, 2001. The parties have not engaged in any transactions under the Service Agreement prior to thirty days of this filing.

Detroit Edison also filed Service Agreements for Short-Term Firm Point-to-Point Transmission Service under the Open Access Transmission Tariff of Detroit Edison, FERC Electric Tariff No. 1. This Service Agreement is between Detroit Edison and Quest Energy LLC, dated as of February 1, 2001. The parties have not engaged in any transactions under the Service Agreement prior to thirty days of this filing.

Detroit Edison requests that the Service Agreements become effective July 20, 2001.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before July 20, 2001. Protests will be considered by the Commission to determine the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-17817 Filed 7-16-01; 8:45 am]

BILLING CODE 6717-01-P